DEPARTMENT OF COMMERCE

National Oceanic and Atmospheric Administration

[I.D. 042103A]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on May 12-15, 2003.

ADDRESSES: These meetings will be held at the Edgewater Beach Resort, 11212 Front Beach Road, Panama City Beach, FL; telephone: 850-235-4044.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

May 14

8:30 a.m.—Convene.

8:45 a.m. - 12 noon—Receive public testimony on the Draft Coastal Migratory Pelagics (CMP) Regulatory Amendment and Draft Reef Fish Amendment 21. The draft CMP Regulatory Amendment sets standards for maximum sustainable yield (MSY), optimum yield (OY), overfished and overfishing for king and Spanish mackerel, and cobia. Draft Reef Fish Amendment 21 contains a proposal to extend the time period for the Madison/Swanson and Steamboat Lumps marine reserves beyond their June 16, 2004 expiration date. Final action to approve Reef Fish Amendment 21 will be taken at a subsequent meeting.

1:30 p.m. - 2:30 p.m.—Receive presentations on individual fishing quotas (IFQ).

2:30 p.m. - 4:30 p.m.—Receive the report of the Reef Fish Management Committee.

4:30 p.m. - 5 p.m.—(Closed Session) Receive the report of the Personnel Committee.

May 15

8:30 a.m. - 9 a.m.—Receive the Mackerel Management Committee report.

9 a.m. - 9:30 a.m.—Receive the Shrimp Management Committee report.

9:30 a.m. - 10:30 a.m.—Receive the Law Enforcement Committee report.

10:30 a.m. - 10:45 a.m.—Receive the Administrative Policy Committee report.

10:45 a.m. - 11 a.m.—Receive the Joint Reef Fish/Mackerel/Red Drum Management Committee report.

11 a.m. - 11:15 a.m.—Receive a report of the International Commission for the Conservation of Atlantic Tunas (ICCAT) Advisory Committee.

11:15 a.m. - 11:30 a.m.—Receive a report of the Gulf Safety Committee.

11:30 a.m. - 11:45 a.m.—Receive a report of the Logo Selection Committee.

11:45 a.m. - 12 noon—Receive Enforcement Reports.

12 noon - 12:15 p.m.—Receive the NMFS Regional Administrator's Report.

12:15 p.m. - 12:45 p.m.—Receive Director's Reports.

12:45 p.m. - 1 p.m.—Other Business.

Committees

May 12

8:30 a.m. - 10 a.m.—Closed Session - Convene the Personnel Committee.

10 a.m. - 11:30 a.m.—Convene the Shrimp Management Committee to discuss the provisions of Draft Shrimp Amendment 13 Options Paper and consider potential actions regarding Shrimp Amendment 10.

1 p.m. - 5:30 p.m.—Convene the Reef Fish Management Committee to hear presentations regarding the evaluation of the Madison/Swanson and Steamboat Lumps Marine Reserves and the results of a National Marine Fisheries Service (NMFS) trolling study. There will also be presentations by Florida Keys National Marine Sanctuary (FKNMS) personnel on fish traps and by NMFS on vessel monitoring systems (VMS). The committee will review public comments and recommendations by the Scientific and Statistical Committee and Reef Fish Advisory Panel on Amendment 21 and make recommendations to be considered by the full Council on Wednesday afternoon.

May 13

8:30 a.m. - 10 a.m.—Convene the Administrative Policy Committee to discuss proposed revisions to the Council's Administrative Handbook.

10 a.m. - 12 noon—Convene the Law Enforcement Committee to discuss criminal penalties for managing game and fish resources and to approve the Enforcement Operations Plan. They will also hear a request by the Worldwide Water Foundation for fishing vessel designation.

1:30 p.m. - 3 p.m.—Convene a joint meeting of the Reef Fish, Mackerel, and Red Drum Management Committees to discuss the proposed scoping document on a generic aquaculture amendment.

3 p.m. - 5 p.m.—Convene the Mackerel Management Committee to review and comment on the final CMP Regulatory Amendment and to discuss a scoping document for Draft CMP Amendment 15.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by May 5, 2003.

Dated: April 21, 2003.
Matteo J. Milazzo,
Acting Director, Office of Sustainable Fisheries, National Marine Fisheries Service.

[FR Doc. 03-10279 Filed 4-24-03; 8:45 am]

BILLING CODE 3510-22-S